DEPARTMENT OF JUSTICE

Antitrust Division

Notice Pursuant to the National Cooperative Research and Production Act of 1993—Consortium for Command, Control, Communications and Computer Technologies

Notice is hereby given that on January 31, 2017, pursuant to Section 6(a) of the National Cooperative Research and Production Act of 1993; 15. U.S.C. 4301 et seq. (“the Act”), the Consortium for Command, Control, Communications and Computer Technologies (“Consortium for Command”) has filed written notification simultaneously with the Attorney General and the Federal Trade Commission disclosing changes in its membership. The notifications were filed for the purpose of invoking the Act's provisions limiting the recovery of antitrust plaintiffs to actual damages under specified circumstances.

Specifically, 4LNS, Inc. DBA Gravity Jack Partnership, Meridian, ID; ACE, Howell, NJ; Ad Hoc Research Associates, Abingdon, MD; ADI, McLean, VA; Advanced Systems Development, Inc., Alexandria, VA; Advanced Systems, Inc., Fairfax, VA; AGEISS, Lakewood, CO; Agile, Huntington Beach, CA; AIRTEC, California, MD; Alion Science and Technology Corporation, Huntsville, AL; Allied Associates International, Inc., Gainesville, VA; AM General, Livonia, MI; Analog Devices Inc., Tampa, FL; Analytix, Inc., Huntsville, AL; Applied Research, Albuquerque, NM; Aries Security, LLC, Wilmington, DE; ARMAG Corporation, Bardstown, KY; ASET Partners Corporation, Alexandria, VA; AT&T, Vienna, VA; ATC, Ithaca, NY; Atlantic Diving Supply, Inc., Virginia Beach, VA; Avineon, Inc., McLean, VA; Banc 3, Princeton, NJ; BigR.io, LLC, Boston, MA; BitSpeed, Manhattan Beach, CA; Bivio Networks, Inc., Pleasanton, CA; BlueIvy Partners, LLC, San Diego, CA; Bluestone, Washington, DC; Booz Allen Hamilton, McLean, VA; Brighterion, Inc., San Francisco, CA; Brocade Communications Systems, Inc., San Jose, CA; BY LIGHT Professional IT Services, Inc., Arlington, VA; CACI Enterprises Solutions, Reston, VA; Cambridge Global Advisors, Arlington, VA; Carbon Black, Inc., Waltham, MA; CAS, Inc., Huntsville, AL; Centurum Information Technology, Inc., Marlton, NJ; Charles F. Day & Associates, Fredericksburg, VA; Chesapeake Technology International Corporation, Denver, CO; CHI Systems, Inc., Plymouth Meeting, PA; Circadence Corporation, Boulder, CO; CJEN, Inc., Dumfries, VA; Cloud Front, Saratoga, CA; Cohesive, Bristow, VA; Cole Engineering Services Inc., Orlando, FL; Compendium Federal Technology, LLC, Lexington Park, MD; COMPQSOFT, Inc., Houston, TX; Computer Security Solutions, LLC (a SC3 Company), Fairfax, VA; Comtech Mobile Datacom Corporation, Germantown, MD; Constellation Integrated Technologies, San Diego, CA; Cornell University, Ithaca, NY; Cornerstone, Leavenworth, KS; Cornerstone Software Solutions, Inc., Orlando, FL; CORTEK, Fredericksburg, VA; Cougaar Software, Inc., Vienna, VA; Cromulence, Melbourne, FL; Critical Stack, Cincinnati, OH; Cyber Solutions & Services, Inc. DBA American Cyber, Clifton, VA; Cyberspace Analytics Corporation, Columbia, MD; CyberSponse, Inc., Arlington, VA; CyberWorx, LLC, San Diego, CA; Cybric, Inc., Lynnfield, MA; DAn, McLean, VA; Dawson Enterprises, Inc., San Antonio, TX; Decision Engineering, Freehold, NJ; DeferPanic, Inc., Emeryville, CA; Dell Federal Systems, L.P., Round Rock, TX; Deloitte & Touche, LLP, Arlington, VA; DESE Research, Inc., Huntsville, AL; DHPC Technologies, Inc., Woodbridge, VA; Digital Sandbox, Inc., McLean, VA; Dispersive, Alpharetta, GA; Draken International, Inc., Allentown, PA; Draper Laboratory, Cambridge, MA; D-Tech, Inc., Herndon, VA; Dynetics, Huntsville, AL; DZYNE, Ashburn, VA; Eagle Network, Milton, VT; EAI Business Solutions, Inc. DBA EIM Plus, Manassas Park, VA; Elevate Group, LLC DBA Elevate Technology Solution, Rockland, MA; Endgame, Atlanta, GA; Engility, Picatinny, NJ; Enlighten IT Consulting LLC, Hanover, MD; EOIR Technologies, Inc., Fredericksburg, VA; ESRI, Middleton, MA; Exponent, Inc., Menlo Park, CA; Fairwinds Technologies, LLC, Annapolis, MD; Fathom 4, LLC, Charleston, SC; FireEye, Lake in the Hills, IL; Flex Analytics LLC, Silver Spring, MD; Fortinet Federal, Inc., Reston, VA; Frontier Technology, Inc., Goleta, CA; Fulcrum, Centreville, VA; Future Skies, Wall Township, NJ; GaN Corporation, Huntsville, AL; Gantz-Mountain, Monterey, CA; Garud, Ellicott City, MD; GCC, Oakland, MD; General Dynamics Mission Systems, Inc. (GDMS), Scottsdale, AZ; General Atomics Aeronautical Systems, Inc., Poway, CA; George Consulting, Charleston, SC; George Mason University, Fairfax, VA; Georgia Tech Applied Research Corporation, Atlanta, GA; Global Technical Systems, Virginia Beach, VA; Goldbelt C6, LLC, Chesapeake, VA; GPH Consulting, Charleston, SC; GPS Source, Inc., Pueblo West, CO; GreenZone Systems, Minneapolis, MN; Grey Castle Group LLC, Charlotte, NC; Helios, Rome, NY; High Side, Summerville, SC; I_SW, LLC, Arlington, VA; IBM, Huntsville, AL; Infinite Dimensions Integration, Alexandria, VA; Insight Engineering Solutions, Inc., Towsend, DE; Intelligent Decisions, Ashburn, VA; Intelligent Software, Colorado Springs, CO; Intelligent Waves, LLC, Reston, VA; Interoptek, North Charleston, SC; Intific, Arlington, VA; IOEDNA Incorporated, Vienna, VA; IOMAXIS, Springfield, VA; IPKeys technologies, LLC, Eatontown, NJ; IPNS, Inc., Herndon, VA; ISPA Technology, LLC, Centreville, VA; 1ST Research Corporation, Fredericksburg, VA; JANUS Research Group, Inc., Evans, GA; JASK LABS, Inc., San Francisco, CA; Kalotech, Incorporated, Miami, FL; KEYW Corporation, Hanover, MD; KinetX, Inc., Tempe, AZ; Kinsey, Reston, VA; Knowledge Made Solutions, La Jolla, CA; Knowledge Management Inc., Tyngsboro, MA; Kord, Huntsville, AL; L-3, Huntsville, AL; Leidos, Reston, VA; LightCyber LTD, Los Altos, CA; LinQuest Corporation, Los Angeles, CA; LNO, Inc., Martinez, GA; Lockheed Martin, Littleton, CO; Logistic Services International, Inc., Jacksonville, FL; LogRhythm, Inc., Boulder, CO; Long Wave, Oklahoma City, OK; Louisiana Tech University, Ruston, LA; LUCIAD Inc., Washington, DC; MAD Security, Montpelier, VA; Mag Decisive Solutions International Consulting, Woodbridge, VA; Maga Design, Inc., Washington, DC; ManTech Advanced Systems International, Inc., Fairfax, VA; Materials Sciences Corporation, Horsham, PA; Mercer Engineering Research Center, Warner Robins, GA; Meridian Technology Systems, Inc., Adamstown, MD; MetaMaterials, Inc., Austin, TX; Metova Federal LLC, Cabot, AR; Mike Sutton Consulting, Inc. (dba MSCI), Owens Cross Roads, AL; Millennium Corporation, Inc., Arlington, VA; MINIS LLC, Harvest, AL; Mission 1st Group, Inc., Princeton, NJ; Mission Multiplier Consulting, LLC, Huntsville, AL; Mississippi State University, Mississippi State, MS; Modern Technology Solutions, Inc., Alexandria, VA; Modus, Melbourne, FL; MSB Associates, Inc., Alexandria, VA; mZeal, Littleton, MA; Neany, Arlington, VA; NetCentric Technology, LLC, Aberdeen Proving Ground, MD; Netorian Limited Liability Corporation, Aberdeen, MD; Netwerx, Colts Neck, NJ; NexiTech, Woodland Park, CO; Next Century Corporation, Columbia, MD; NextGen Federal Systems, LLC, Morgantown, WV; Norseman Defense Technologies, Elkridge, MD; Northrop Grumman Corporation, McLean, VA; NOU Systems, Inc., Huntsville, AL; NTA, Inc., Huntsville, AL; Ntrepid Corporation, Herndon, VA; OASYS, INC., Huntsville, AL; OGSystems, Chantilly, VA; Open Sans Consulting, Atlanta, GA; Open Solutions Group, Inc. dba BigBear Inc., San Diego, CA; Open Text, Gaithersburg, MD; Operations and Security Integrated Solutions, LLC, Lynn Haven, FL; Optensity, Norwell, MA; Orbis, Annapolis, MD; Palantir, McLean, VA; Parsons, Centreville, VA; Perceptronics Solutions, Inc., Sherman Oaks, CA; Peregrine, Newport News, VA; Peters, Yorktown, VA; Phoenix Group of Virginia, Inc., Chesapeake, VA; Pillar Global Solutions, Inc., Stafford, VA; Pink Summit, San Diego, CA; Point3 Federal, LLC, Baltimore, MD; Polaris Sensor Technologies, Inc., Huntsville, AL; Polyverse Corporation, Kirkland, WA; QED System, LLC, Aberdeen Proving Grounds, MD; Qmulos, LLC, Arlington, VA; Quanterion Solutions Incorporated, Utica, NY; Quantum Dimension, Inc., Huntington Beach, CA; R2C, Huntsville, AL; R3, Coronado, CA; Radio Reconnaissance Technologies, Inc, Fredericksburg, VA; Raytheon Company, Garland, TX; Real Time Solutions of America Inc., Washington, DC; REK Associates, LLC, Chantilly, VA; Research and Engineering Development, Lexington Park, MD; Research Innovations, Inc., Alexandria, VA; SAIC—Science Applications International Corporation, Evans, GA; SANS Innovation Center, LLC; subsidiary of Escal Institute of Advanced Technologies, Inc./dba SANS Institute, Leesburg, VA; Scientific Research, Atlanta, GA; Scitor Corporation, Arlington, VA; SEA Inc., Carson City, NV; Second Front Systems, Inc., Arlington, VA; Semper Fortis Solutions, LLC, Leesburg, VA; Serco, Reston, VA; Shoulder 2 Shoulder, Bluemont, VA; Sierra Nevada Corporation, Arlington, VA; SimSpace, Washington, DC; SimulationDeck, LLC, Denver, CO; SimVentions, Fredericksburg, VA; Soar Technology, Ann Arbor, MI; Socratic Arts, Manasquan, NJ; SoSA Corp., Fairfax, VA; Southern Aerospace Company, LLC, Madison, AL; Southwest Research Institute, San Antonio, TX; Specialty Systems, Inc., Tom Rivers, NJ; Spectrum Comm, Inc., Newport News, VA; Splunk, Arlington, VA; Sqrrl, Cambridge, MA; Star Lab Corporation, Washington, DC; StealthPath, LLC, Alexandria, VA; STEMBoard, LLC, Arlington, VA; STG, Inc., Reston, VA; STIMULUS, Loogootee, IN; StraCon Services Group, LLC, Fort Worth, TX; Strategos, San Diego, CA; Stratus Solutions, Fulton, MD; Stryke Industries LLC, Fort Wayne, IN; Subsystem Technologies, Arlington, VA; Superlative Technologies, DBA SuprTEK, Ashburn, VA; Surveillance and Cyber Security Solutions, LLC, California, MD; Symantec Corporation, Herndon, VA; Synack, Inc., Redwood City, CA; T2S, LLC, Whiteford, MD; T3 Technologies (DBA T3 Tiger Tech), Reston, VA; TaaSera, Leesburg, VA; TechFlow, Inc., San Diego, CA; Technica Corporation, Dulles, VA; Technology Innovations, Annapolis, MD; TechServe Group, LLC, Havre de Grace, MD; TechTrend, Incorporated, Arlington, VA; Tectonic, Manassas, VA; Tempered Networks, Seattle, WA; Temporal Defense Systems, Inc., McLean, VA; TeraDact, Chantilly, VA; Terra Technologies Solutions, LLC, Baltimore, MD; The Boeing Company, Fairfax, VA; The Crestridge Group, Parker, CO; The University of Alabama in Huntsville, Huntsville, AL; The University of North Caroline at Charlotte, on behalf of the Charlotte Research Institute, Charlotte, NC; The University of South Alabama (Tuscaloosa), Tuscaloosa, AL; Tiburon, Grand Rapids, MI; Trace Systems Inc., Vienna, VA; Tri It, Woodstock, MD; Trident Military Systems, LLC, Mesa, AZ; Trideum, Huntsville, AL; TriMech Services, LLC, Glen Allen, VA; Trinary Software, San Jose, CA; Unchartered Software, Inc., Toronto, ON; University of Maryland Baltimore County, Baltimore, MD; UTRS, Cherry Hill, NJ; Velocity, Rockville, MD; Veloxiti, Alpharetta, GA; Venafi, Salt Lake City, UT; Vencore Labs Inc. dba Applied Communication Sciences, Basking Ridge, NJ; VES LLC, Morris Plains, NJ; Visible Assets, Inc., Stratham, NH; VMware, Mt. Pleasant, SC; Wartech Engineering, LLC, Saline, MI; WestWind, Huntsville, AL; WinTec Arrowmaker, Fort Washington, MD; Wolf Den Associates, LLC, McLean, VA; Worcester Polytechnic Institute, Worcester, MA; X-SIM, Cherry Hill, NJ; Yyotta LLC, Stafford, VA; and Zekiah, La Plata, MD, have been added as parties to this venture.

Also, 3D-4U Inc., Blacksburg, VA; Paul Cibuzar Consulting, Nisswa, MN; Scientia LLC, Bloomington, IN; Signal Innovations Group, Inc., Durham, NC; Stevens Institute of Technology, Hoboken, NJ; T2 Solutions LLC, Greenville, SC; TS2 Tactical Spec-Solutions Inc., Bedford, IN; UXB International, Blacksburg, VA; Virginia Tech Applied Research Corporation, Blacksburg, VA; and Wyle Laboratories, Lexington Park, MD, have withdrawn as parties to this venture.

No other changes have been made in either the membership or planned activity of the group research project. Membership in this group research project remains open, and Consortium for Command intends to file additional written notifications disclosing all changes in membership.

On November 18, 2011, Consortium for Command filed its original notification pursuant to Section 6(a) of the Act. The Department of Justice published a notice in the Federal Register pursuant to Section 6(b) of the Act on December 12, 2011 (76 FR 77251).

Patricia A. Brink,
Director of Civil Enforcement, Antitrust Division.

[FR Doc. 2017-05252 Filed 3-15-17; 8:45 am]

BILLING CODE P